DEPARTMENT OF TRANSPORTATION

Federal Highway Administration

Notice of Final Federal Agency Actions on Proposed Highway in Virginia

AGENCY: Federal Highway Administration (FHWA), DOT.

ACTION: Notice of Limitation on Claims for Judicial Review of Actions by FHWA.

SUMMARY: This notice announces actions taken by the FHWA that are final within the meaning of 23 U.S.C. 139(1)(1). The actions relate to a proposed highway project, Interstate 495 (i.e., Capital Beltway), I-95/I-395/I-495 Interchange to the American Legion Bridge, in the County of Fairfax, State of Virginia. Those actions grant approvals for the project.

DATES: By this notice, the FHWA is advising the public of final agency actions subject to 23 U.S.C. 139(1)(1). A claim seeking judicial review of the Federal agency actions on the highway project will be barred unless the claim is filed on or before January 16, 2007. If the Federal law that authorizes judicial review of a claim provides a time period of less than 180 days for filing such claim, then that shorter time period still applies.

FOR FURTHER INFORMATION CONTACT: Mr. Edward S. Sundra, Senior Environmental Specialist, Federal Highway Administration, 400 North 8th Street, Suite 750, Richmond, Virginia 23240-0249; telephone: (804) 775-3338; e-mail: Ed.Sundra@fhwa.dot.gov. The FHWA Virginia Division Office's normal business hours are 7 a.m. to 4:30 p.m. (eastern time). You may also contact Mr. Earl T. Robb, Environmental Administrator, Virginia Department of Transportation, 1401 East Broad Street, Richmond, Virginia 23219; telephone: (804) 786-4559; e-mail: Earl.Robb@vdot.virginia.gov.

SUPPLEMENTARY INFORMATION: Notice is hereby given that the FHWA has taken final agency actions by issuing approvals for the following highway project in the State of Virginia: Interstate 495 (i.e., Capital Beltway), I-95/I-395/I-495 Interchange to the American Legion Bridge, in the County of Fairfax. The project will be approximately 22.5 km (14 mi) long and consists of improvements to the mainline as well as improvements at nine interchanges located within the project limits. Specifically, two high occupancy vehicle (HOV) lanes will be added to the main line in each direction and be managed as high occupancy toll (HOT) lanes. The actions by the Federal agencies, and the laws under which such actions were taken, are described in the Final Environmental Impact Statement (FEIS) for the project, approved on April 18, 2006, in the FHWA Record of Decision (ROD) issued on June 29, 2006, and in other documents in the FHWA administrative record. The FEIS, ROD, and other documents in the FHWA administrative record file are available by contacting the FHWA or the Virginia Department of Transportation at the addresses provided above. The FHWA FEIS and ROD can be viewed and downloaded from the project Web site at http://project1.parsons.com/capitalbeltway/.

This notice applies to all FHWA decisions and approvals as of the issuance date of this notice and all laws under which such actions were taken, including but not limited to:

1. General: National Environmental Policy Act (NEPA) [42 USC 4321-4351]; Federal-Aid Highway Act [23 U.S.C. 109].

2. Air: Clean Air Act, 42 U.S.C. 7401-7671(q).

3. Land: Section 4(f) of the Department of Transportation Act of 1966 [49 U.S.C. 303]; Landscaping and Science Enhancement (Wildflowers), 23 U.S.C. 319.

4. Wildlife: Endangered Species Act [16 U.S.C. 1531-1544 and Section 1536], Marine Mammal Protection Act [16 U.S.C. 1361], Fish and wildlife Coordination Act [16 U.S.C. 661-667(d)], Migratory Bird Treaty Act [16 U.S.C. 703-712].

5. Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act (NAGPRA) [25 U.S.C. 3001-3013].

6. Social and Economic: Civil Rights Act of 1964 [42 U.S.C. 2000(d)-200(d)(1)]; American Indian Religious Freedom Act [42 U.S.C. 1996]; Farmland Protection Policy Act (FPPA) [7 U.S.C. 4201-4209].

7. Executive Orders: E.O. 1190 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: July 6, 2006.
Edward Sundra,
Senior Environmental Specialist, Richmond, Virginia.

[FR Doc. 06-6265 Filed 7-17-06; 8:45 am]

BILLING CODE 4910-22-M